DEPARTMENT OF HOMELAND SECURITY

Bureau of Citizenship and Immigration Services

Agency Information Collection Activities: Comment Request

ACTION: Request OMB emergency approval; application for advance permission to return to unrelinqushed domicile; form I-191.

The Department of Homeland Security, Bureau of Citizenship and Immigration Services (BCIS) has submitted the following information collection request utilizing emergency review procedures to the Office of Management and Budget (OMB) for review and clearance in accordance with section 1320.13(a)(1)(ii) and (1)(2)(iii) of the Paperwork Reduction Act of 1995. The BCIS has determined that it cannot reasonably comply with the normal clearance procedures under this part because normal clearance procedures are reasonably likely to prevent or disrupt the collection of information. Emergency review and approval of this information collection will ensure that the collection may continue to be utilized after its expiration of June 30, 2003. Therefore, OMB approval has been requested by June 20, 2003.

If granted, the emergency approval is only valid for 180 days. All comments and/or questions pertaining to this pending request for emergency approval must be directed to OMB, Office of Information and Regulatory Affairs, 725-17th Street, NW., Suite 10235, Washington, DC 20503; Attention: Department of Homeland Security Desk Officer, 202-395-5887. Comments regarding the emergency submission of this information collection may also be submitted via facsimile to 202-395-6974.

During the first 60 days of this same period, a regular review of this information collection is also being undertaken. During the regular review period, the BCIS requests written comments and suggestions from the public and affected concerning this information collection. Comments are encouraged and will accepted for 60 days until August 4, 2003. During the 60-day regular review, all comments and suggestions, or questions regarding additional information, to include obtaining a copy of the information instrument with instructions, should be directed to Mr. Richard A. Sloan, 202-514-3291, Director, Regulations and Forms Services Division, Bureau of Immigration and Customs Enforcement, U.S. Department of Homeland Security, Room 4034, 425 I Street, NW., Washington, DC 20536. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Application for Permission to Return to Unrelinquished Domicile.

(3) Agency form number, if any, and the applicable component of the Department of Homeland Security sponsoring the collection: Form I-191. Bureau of Citizenship and Immigration Services.

(4) Affected public who will be asked or required to respond, as well as brief abstract: Primary: Individuals or households. The information collected on this form is used to determine an applicant's eligibility for discretionary relief under section 212(c) of the Immigration and Nationality Act.

(5) An estimate of the total number of respondents and the amount of time estimated for an average respondent to respond: 300 responses at 15 minutes (.25) per response.

(6) An estimate of the total public burden (in hours) associated with the collection: 75 annual burden hours.

If you have additional comments, suggestions, or need a copy of the proposed information collection instrument with instructions, or additional information, please contact Richard A. Sloan 202-514-3291, Director, Regulations and Forms Services Division, Bureau of Immigration and Customs Enforcement, U.S. Department of Homeland Security, Room 4304, 425 I Street, NW., Washington, DC 20536. Additionally, comments and/or suggestions regarding the item(s) contained in this notice, especially regarding the estimated public burden and associated response time may also be directed to Mr. Richard A. Sloan.

If additional information is required contact: Mr. Lewis Oleinick, Department Clearance Officer, United States Department of Homeland Security, 1800 G Street, NW. 10th Floor, NW., Washington, DC 20530.

Dated: May 29, 2003.
Richard A. Sloan,
Department Clearance Officer, Bureau of Immigration and Customs Enforcement, Department of Homeland Security.

[FR Doc. 03-14003 Filed 6-3-03; 8:45 am]

BILLING CODE 4410-10-M